DEPARTMENT OF JUSTICE

Notice of Lodging of Consent Decree Under the Clean Water Act and the Resource Conservation and Recovery Act

Notice is hereby given that on August 7, 2008, a proposed Consent Decree (“Decree”) in United States v. Republic Dumpco, Inc., et al., Civil Action No. 2:08-cv-01024 (D. Nev.) was lodged with the United States District Court for the District of Nevada.

The civil action relates to the Sunrise Mountain Landfill in Las Vegas, Nevada. In this action the United States sought to obtain injunctive relief and assessment of civil penalties against Republic Dumpco, Inc. and Republic Silver State Disposal Inc. (doing business as Republic Services of Southern Nevada) (hereinafter “Republic Services of Southern Nevada”), for alleged violations of the Clean Water Act (“CWA”), 33 U.S.C. 1251-1387. The complaint also sought injunctive relief and assessment of civil penalties against Republic Services of Southern Nevada and Clark County, Nevada, under Section 7003 of the Resource Conservation and Recovery Act (“RCRA”), 42 U.S.C. 6973. The complaint also states claims for damages for trespass against all three defendants, and breach of contract and violations of permits against Clark County.

The proposed Decree would require Republic Services of Southern Nevada to pay $1 million as a civil penalty, and to implement a comprehensive closure of the Landfill estimated to cost $36.3 million, including storm water controls, upgrades to the cover, methane gas collection, groundwater monitoring, and long-term operation and maintenance. In addition, Clark County agrees to accept ownership of the landfill from the United States Bureau of Land Management. The Consent Decree resolves the violations alleged in the complaint. In addition, the United States grants a covenant not to sue for the Landfill under Section 7003 of RCRA, and under sections 106 and 107 of the Comprehensive Environmental Response, Compensation, and Liability Act of 1980, as amended (“CERCLA”), 42 U.S.C. 9606 and 9607.

The Department of Justice will receive for a period of thirty (30) days from the date of this publication comments relating to the Decree. Comments should be addressed to the Assistant Attorney General, Environment and Natural Resources Division, and either e-mailed to pubcomment-ees.enrd@usdoj.gov or mailed to P.O. Box 7611, U.S. Department of Justice, Washington, D.C. 20044-7611, and should reference United States v. Republic Dumpco, Civil Action No. 2:08-cv-01024, and DOJ Ref. No. 90-7-1-06725/2. Commenters may request an opportunity for a public meeting in the affected area, in accordance with Section 7003(d) of RCRA, 42 U.S.C. 6973(d).

The Decree may be examined at the Office of the United States Attorney, 333 Las Vegas Blvd. South, Suite 5000, Las Vegas, Nevada 89101. During the public comment period, the Decree may also be examined on the following Department of Justice Web site: http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $16.50 (25 cents per page reproduction cost) for a copy of the consent decree without attachments or $42.25 for a copy of the consent decree with the attachments, payable to the U.S. Treasury or, if by e-mail or fax, forward a check in that amount to the Consent Decree Library at the stated address.

Maureen Katz,
Assistant Chief, Environmental Enforcement Section, Environment and Natural Resources Division.

[FR Doc. E8-18621 Filed 8-11-08; 8:45 am]

BILLING CODE 4410-15-P